DEPARTMENT OF COMMERCE

National Institute of Standards and Technology

Agency Information Collection Activities; Submission to the Office of Management and Budget (OMB) for Review and Approval; Comment Request. iEdison System.

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 25, 2021.

ADDRESSES: Interested persons are invited to submit written comments by mail to Elizabeth Reinhart, Management Analyst, National Institute of Standards and Technology, 100 Bureau Drive, Gaithersburg, MD 20899, elizabeth.reinhart@nist.gov, or PRAcomments@doc.gov. Please reference OMB Control Number 0693-xxxx in the subject line of your comments. Do not submit Confidential Business Information or otherwise sensitive or protected information.

FOR FURTHER INFORMATION CONTACT: Requests for additional information or specific questions related to collection activities should be directed to Bethany Loftin, Interagency and iEdison Specialist, National Institute of Standards and Technology, 100 Bureau Drive Gaithersburg MD 20899, 301-975-0496, bethany.loftin@nist.gov.

SUPPLEMENTARY INFORMATION:

I. Abstract

The Bayh-Dole Act (35 U.S.C. 18) and its implementing regulations (37 CFR 401) allow for recipients of federal research funding (Contractors) to retain ownership of inventions developed under federal funding agreements. In exchange, the government retains certain rights to the invention, including a world-wide right to use by or on behalf of the U.S. government. The law also requires the Contractor to obtain permission for certain actions and fulfill reporting requirements including:

a. Initial reporting of invention.

b. Decision to retain title to invention.

c. Filing of patent protection.

d. Evidence of government support clause within patents.

e. Submission of a license confirming the government's rights.

f. Notice if the Contractor is going to discontinue the pursuit or continuance of patent protection.

g. Information related to the development and utilization of invention.

h. Permission to assign to a third party; and

i. Permission to waive domestic manufacturing requirements.

This information is used for a variety of reasons. It allows the government to identify technologies to which the government has rights to use without additional payment or licensing. This acts as a time and cost-saving mechanism to avoid unnecessary negotiating and payment. It also provides data for calculation of return on investment (ROI) from federal funding and identifies successful research programs. Thirdly, it allows the government the opportunity to timely protect inventions which the Contractor declines title or discontinues patent protection. Historically, the National Institutes of Health (NIH) has collected this information via their on-line portal, iEdison; however, the responsibility for this data collection will be taken over by NIST. Agencies that do not register with iEdison are required to collect this information independently.

II. Method of Collection

Information will be electronically collected through the online system iEdison.

III. Data

OMB Control Number: 0693-XXXX.

Form Number(s): None.

Type of Review: Regular submission, new information collection.

Affected Public: Business or other for-profit organizations; Not-for-profit institutions; State, Local, or Tribal government.

Estimated Number of Respondents: 3063.

Estimated Time per Response:

Invention Records: 6 hours.

Patent Records: 3.5 hours.

Utilization Records 4.5 hours.

Estimated Total Annual Burden Hours:

Invention Records: 18,378 hours.

Patent Records: 10,720 hours.

Utilization Records: 13,783 hours.

Estimated Total Annual Cost to Public: $0.

Respondent's Obligation: Mandatory.

Legal Authority: The Bayh-Dole Act (35 U.S.C. 18) and its implementing regulations (37 CFR 401).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-18196 Filed 8-23-21; 8:45 am]

BILLING CODE 3510-13-P